DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by December 10, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Weill Cornell Medical College, Department of Medicine, Division of International Medicine and Infectious Diseases, New York, NY, PRT-167268.

The applicant requests a permit to import biological samples from pygmy chimpanzee (Pan paniscus) from the Leipzig Zoo, Leipzig, Germany for the purpose of scientific research. This notification covers activities conducted by the applicant for a five-year period.

Applicant: Woodland Park Zoological Gardens, Seattle, WA, PRT-108484.

The applicant requests a permit to import biological samples from one male captive Asian elephant (Elephas maximus) from Canada for the purpose of breeding and enhancement of the survival of the species. This notification covers activities conducted by the applicant for a five-year period.

Applicant: Byron G. Sadler, Junction, TX, PRT-167088.

The applicant requests a permit to import the sport-hunted trophy of one male bontebok (Damaliscus pygargus pygargus) culled from a captive herd maintained under the management program of the Republic of South Africa, for the purpose of enhancement of the survival of the species.

Applicant: Cynthia L. Schroeder-Watson, Dallas, TX, PRT-166366.

The applicant requests a permit to import the sport-hunted trophy of one male bontebok (Damaliscus pygargus pygargus) culled from a captive herd maintained under the management program of the Republic of South Africa, for the purpose of enhancement of the survival of the species.

Applicant: Scott C. Grevey, Fairfield, OH, PRT-166995.

The applicant requests a permit to import the sport-hunted trophy of one male bontebok (Damaliscus pygargus pygargus) culled from a captive herd maintained under the management program of the Republic of South Africa, for the purpose of enhancement of the survival of the species.

Dated: October 26, 2007.
Lisa J. Lierheimer,
Senior Permit Biologist, Branch of Permits, Division of Management Authority.

[FR Doc. E7-22070 Filed 11-8-07; 8:45 am]

BILLING CODE 4310-55-P